DEPARTMENT OF DEFENSE

Office of the Secretary

Defense Advisory Committee on Military Personnel Testing; Notice of Federal Advisory Committee Meeting

AGENCY: Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Defense Advisory Committee on Military Personnel Testing will take place.

DATES: Thursday, May 9, 2013, from 9:00 a.m. to 4:00 p.m. and Friday, May 10, 2013, from 9:00 a.m. to 12:00 p.m.

ADDRESSES: The meeting will be held at the Pine Inn, Ocean Avenue, between Lincoln and Monte Verde Street, Carmel, California.

FOR FURTHER INFORMATION CONTACT: Committee's Designated Federal Officer or Point of Contact: Dr. Jane M. Arabian, Assistant Director, Accession Policy, Office of the Under Secretary of Defense (Personnel and Readiness), Room 3D1066, The Pentagon, Washington, DC 20301-4000, telephone (703) 697-9271.

SUPPLEMENTARY INFORMATION: Purpose of the Meeting: The purpose of the meeting is to review planned changes and progress in developing computerized tests for military enlistment.

Agenda: The agenda includes an overview of current enlistment test development timelines and planned research for the next 3 years.

Public's Accessibility to the Meeting: Pursuant to 5 U.S.C. 552b and 41 CFR 102-3.140 through 102-3.165, and the availability of space, this meeting is open to the public. Persons desiring to make oral presentations or submit written statements for consideration at the Committee meeting must contact Dr. Jane M. Arabian at the address or telephone number in FOR FURTHER INFORMATION CONTACT no later than May 1, 2013.

Dated: April 5, 2013.
Aaron Siegel,
Alternate OSD Federal Register Liaison Officer, Department of Defense.

[FR Doc. 2013-08395 Filed 4-9-13; 8:45 am]

BILLING CODE 5001-06-P